DEPARTMENT OF COMMERCE

International Trade Administration

[Docket No.: 170103004-7004-01]

RIN 0625-XC028

Revisions to User Fees for Export and Investment Promotion Services/Events

AGENCY: U.S. & Foreign Commercial Service, International Trade Administration, Department of Commerce.

ACTION: Extension of comment period.

SUMMARY: The U.S. & Foreign Commercial Service (US&FCS) within the International Trade Administration (ITA) is extending the comment period for the notice, “Revisions to User Fees for Export and Investment Promotion Services/Events.” The comment period is extended from January 16, 2016, to January 21, 2017.

DATES: The comment period for the notice that was published on December 21, 2016 (81 FR 93660), is extended. Comments must be received on or before January 21, 2017.

ADDRESSES: You may submit comments by either of the following methods:

• Federal eRulemaking Portal: www.Regulations.gov. The identification number is ITA-2016-0012.

• Postal Mail/Commercial Delivery to Docket No. ITA-2016-0012, International Trade Administration, U.S. & Foreign Commercial Service, Office of Strategic Planning & Resource Management, 1400 Constitution Avenue NW., Rm. C125, Washington, DC 20235.

Instructions: Comments sent by any other method, to any other address or individual, or received after the end of the comment period, may not be considered by US&FCS. All comments received are a part of the public record and will generally be posted for public viewing on www.regulations.gov without change. All personal identifying information (e.g., name, address, etc.), confidential business information, or otherwise sensitive information submitted voluntarily by the sender will be publicly accessible. US&FCS will accept anonymous comments (enter “N/A” in required fields if you wish to remain anonymous).

FOR FURTHER INFORMATION CONTACT: Ms. Aditi Palli, International Trade Administration, U.S. & Foreign Commercial Service, Office of Strategic Planning, 1400 Constitution Avenue NW., Rm. 21022, Washington, DC 20230, Phone: (202) 482-2025.

SUPPLEMENTARY INFORMATION: On December 21, 2016, US&FCS published in the Federal Register (81 FR 93660) proposed revisions to the user fees for export and investment promotion services/events. US&FCS is extending the public comment period from January 16, 2016, until January 21, 2017.

Aditi Palli,
Program Analyst International Trade Administration, U.S. & Foreign Commercial Service.

[FR Doc. 2017-00310 Filed 1-10-17; 8:45 am]

BILLING CODE 3510-FP-P